DEPARTMENT OF THE INTERIOR

National Park Service

Notice of Inventory Completion: University of Missouri-Columbia, Museum of Anthropology, Columbia, MO

AGENCY: National Park Service, Interior.

ACTION: Notice.

Notice is here given in accordance with the Native American Graves Protection and Repatriation Act (NAGPRA), 25 U.S.C. 3003, of the completion of an inventory of human remains and associated funerary objects in the possession of the University of Missouri-Columbia, Museum of Anthropology, Columbia, MO. The human remains and associated funerary objects were removed from Vernon County, MO.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the University of Missouri-Columbia, Museum of Anthropology professional staff in consultation with the Osage Tribe, Oklahoma.

In 1963, human remains representing a minimum of three individuals were removed from the Brown site (23VE3), Vernon County, MO, during excavations conducted by University of Missouri-Columbia professional staff and supervised field school students. Other excavations at the site did not produce any evidence of human remains or burial areas. No known individuals were identified. The 237 associated funerary objects are identified as 200 faunal bones, 3 pottery fragments, 1 brass tinkler, 2 glass fragments, 14 metal fragments that include kettle parts, 1 brass trigger guard, 1 iron screw, 2 glass beads, 4 sandstone abraders (2 conical), 1 hematite fragment, and 8 chert scrapers/modified spalls.

The analysis sheet lists the following artifacts associated with this provenience and catalog number that to date have not been located: 1 deer antler tool, 2 arrow point fragments or gun flints, 1 scraper, 1 sandstone mold, and 4 pieces of debitage (4 flakes).

Based on oral tradition, types of associated funerary objects, and historical documents, the human remains have been determined to be Native American. Based on oral tradition, archeological evidence, presence of trade objects, and historical documents, the Brown site has been identified as a Great Osage village of the Great Osage tribe with occupation approximately A.D. 1675 to A.D. 1777. The federally recognized Osage Tribe, Oklahoma are the present-day descendants of the Great Osage tribe.

Officials of the University of Missouri-Columbia, Museum of Anthropology have determined that, pursuant to 25 U.S.C. 3001 (9-10), the human remains described above represent the physical remains of three individuals of Native American ancestry. Officials of the University of Missouri-Columbia, Museum of Anthropology also have determined that, pursuant to 25 U.S.C. 3001 (3)(A), the 237 objects described above are reasonably believed to have been placed with or near individual human remains at the time of death or later as part of the death rite or ceremony. Lastly, officials of the University of Missouri-Columbia, Museum of Anthropology have determined that, pursuant to 25 U.S.C. 3001 (2), there is a relationship of shared group identity that can be reasonably traced between the Native American human remains and associated funerary objects and the Osage Tribe, Oklahoma.

Representatives of any other Indian tribe that believes itself to be culturally affiliated with the human remains and associated funerary objects should contact Dr. Michael O'Brien, Director, Museum of Anthropology, 317 Lowry Hall, University of Missouri-Columbia, Columbia, MO 65211, telephone (573) 882-4421, before October 13, 2005. Repatriation of the human remains and associated funerary objects to the Osage Tribe, Oklahoma may proceed after that date if no additional claimants come forward.

University of Missouri-Columbia, Museum of Anthropology is responsible for notifying the Osage Tribe, Oklahoma that this notice has been published.

Dated: August 3, 2005
Sherry Hutt,
Manager, National NAGPRA Program.

[FR Doc. 05-18084 Filed 9-12-05; 8:45 am]

BILLING CODE 4312-50-S